DEPARTMENT OF AGRICULTURE

Rural Utilities Service

RIN 0572-ZA01

DEPARTMENT OF COMMERCE

National Telecommunications and Information Administration

RIN 0660-ZA28

Broadband Initiatives Program; Broadband Technology Opportunities Program

AGENCIES: Rural Utilities Service (RUS), Department of Agriculture, and National Telecommunications and Information Administration (NTIA), Department of Commerce.

ACTION: Notice of funds availability; method of acceptance of supplemental attachments.

SUMMARY: RUS and NTIA announce additional measures to ensure that any pending electronic applications experiencing difficulties uploading attachments into the Easygrants® System for the Broadband Initiatives Program (BIP) and the Broadband Technology Opportunities Program (BTOP) can be submitted by the extended application deadline of August 20, 2009. The Easygrants® System will not accept applications after 5 p.m. Eastern Time (ET) on August 20, 2009. In order to ensure that all pending electronic applications experiencing difficulties uploading attachments can be completed, the core application must be electronically submitted using the Easygrants® System by 5 p.m. ET on August 20, 2009. The extension described herein pertains only to the attachments listed in the “Uploads Checklist” of the “Uploads” page of the Easygrants® System, including documents submitted as Supplemental Information. The core application is defined as all fields and questions in the application, not including the attachments listed in the “Uploads Checklist” of the “Uploads” page. Any attachments that the applicant is unable to upload to the Easygrants® System must be submitted by August 24, 2009, using one of the following methods of delivery: hand-delivery, overnight express, or regular mail.

DATES: For both hand and mail deliveries, the attachments for both BIP and BTOP applications must be submitted on an appropriate electronic medium, such as a DVD, CD-ROM, or flash drive, and in the same document format and type as used for that respective attachment in the Easygrants® System (e.g., .doc, .xls, .pdf) and postmarked no later than August 24, 2009, or hand-delivered no later than 5 p.m. ET on August 24, 2009, to the address listed below. Electronic mail and facsimile machine submissions will not be accepted.

FOR FURTHER INFORMATION CONTACT: For general inquiries regarding BIP, contact David J. Villano, Assistant Administrator Telecommunications Program, Rural Utilities Service, e-mail: bip@wdc.usda.gov, telephone: (202) 690-0525. For general inquiries regarding BTOP, contact Anthony Wilhelm, Deputy Associate Administrator, Infrastructure Division, Office of Telecommunications and Information Applications, National Telecommunications and Information Administration, e-mail: btop@ntia.doc.gov, telephone: (202) 482-2048.

SUPPLEMENTARY INFORMATION: On July 9, 2009, RUS and NTIA published a Notice of Funds Availability (NOFA) and Solicitation of Applications in the Federal Register announcing general policy and application procedures for the BIP and BTOP programs. 74 FR 33104 (2009). In the NOFA, RUS and NTIA encouraged all applicants to submit their applications electronically and required that certain applications be filed electronically through an online application system at http://www.broadbandusa.gov. 74 FR at 33118. RUS and NTIA established an application window for these grant programs from July 14, 2009, at 8 a.m. ET through August 14, 2009, at 5 p.m. ET (application closing deadline).

On August 13, 2009, the agencies extended the application deadline for BIP and BTOP until 5 p.m. ET on August 20, 2009, for those applicants that had an application pending in the Easygrants® System as of the original application closing deadline, August 14, 2009. The temporary extension allowed the agencies to review the electronic intake system and make improvements wherever possible to address the large volume of activity from potential applicants. In particular, the agencies added servers, increased the efficiency of the servers, and made software changes. While these efforts have greatly improved the filing experience for the applicants, the agencies believe it is prudent and reasonable to provide additional flexibility for meeting the application deadline. The agencies are committed to making the application process fair and user-friendly for the public. The agencies are therefore taking additional action, out of an abundance of caution, to ensure that all pending electronic applications can be submitted in a timely manner.

By this Notice, RUS and NTIA remind applicants that applications are due by 5 p.m. ET on August 20, 2009. After 5 p.m. ET on August 20, 2009, applicants will no longer be able to submit applications through the Easygrants® System. Any information provided through the system, including attachments that have been uploaded, will be final by that time and not subject to revision or amendment by the applicants.¹

¹ Note that applicants may still view this information by logging into Easygrants® and clicking the application link on their homepage. This links to the application's Main page, which will display a listing of all submitted attachments and links to the original and PDF-converted documents so that they can be viewed, downloaded, or printed. Applicants may also view, download, and print a PDF copy of their core application and any submitted attachments from this page.

To the extent that any applicant has been unable to upload any of the attachments to its application by the August 20th, 5 p.m. deadline, the applicant may submit the application without those attachments it is having difficulty uploading, effective as of the posting of this Notice. The agencies will permit the applicant a limited extension to submit the attachments it was unable to upload by hand-delivery, overnight express, or by regular mail, as outlined below, provided that the applicant has already submitted its core application in a timely fashion. All applicants still must submit the required portions of the core application electronically using the Easygrants® System by 5 p.m. ET on August 20, 2009. The extension described herein pertains only to the attachments listed in the “Uploads Checklist” of the “Uploads” page of the Easygrants® System, including documents submitted as Supplemental Information. The core application, which must be filed no later than 5 p.m. ET on August 20, 2009, is defined as all fields and questions in the application, not including the attachments listed in the “Uploads Checklist” of the “Uploads” page.

As currently configured, the Easygrants® System does not permit the submission of applications that are missing required attachments. In order to accommodate alternative methods for the submission of attachments, the Easygrants® System will be reconfigured, effective 9 a.m. ET on August 20th, to allow the submission of an application without required attachments. Thus, applicants will have the ability to submit their core application through the Easygrants® System by 5 p.m. ET on August 20, 2009 and subsequently submit any attachments that were not successfully uploaded by August 24, 2009, as described herein. It is emphasized, however, that every applicant should make every effort to submit its complete application, including attachments, through the Easygrants® System if it can prior to availing itself of this option.

RUS and NTIA strongly encourage the applicants to send an e-mail by midnight ET on August 20th to helpdesk@broadbandusa.gov indicating their intent to submit their attachments via alternate means. This notice will enable the agencies to better track and prepare for the submissions. The e-mail should contain the following information: (1) The Easygrants® ID number; ² (2) a contact name and telephone number; (3) the agency to receive the application (BIP, BTOP, or BIP/BTOP) (4) the type of project (Infrastructure, Public Computer Center, or Sustainable Broadband Adoption), (5) the list of attachment(s) that could not be uploaded into the Easygrants® System. Applicants should not send any attachments with this e-mail.

² The Easygrants® ID number is generated once the application is started and is visible as a header in the pdf document.

Submission: The applicant must submit for each application:

1. A letter containing the following information: (1) The Easygrants® ID number; (2) a contact name and telephone number; (3) e-mail address; (4) the agency to receive the application (BIP, BTOP, or BIP/BTOP) (5) the type of project (Infrastructure, Public Computer Center, or Sustainable Broadband Adoption), (6) the list of attachment(s) that could not be uploaded into the Easygrants® System.

2. The attachments the applicant was unable to upload on the Easygrants® System on an appropriate electronic medium, such as a DVD, CD-ROM or flash drive, and in the same document format and type as used for that respective attachment in the Easygrants® System (e.g., .doc, .xls, .pdf). Each file on the DVD, CD-ROM, or flash drive must be labeled in the following format: [Easygrants ID]_[Upload Number]_[Attachment Name] (e.g., 424_13_Q40_ Attachment F_ Legal Opinion); ³

³ The Upload Number can be found in the “Uploads Checklist” of the “Uploads” page. It is the first number that appears on the left in the first column. The Attachment Name appears after the Upload Number.

3. A letter signed by an authorized representative of the applicant certifying that he or she is authorized to submit the attachments on behalf of the applicant and that all attachments are true and correct to the best of his or her knowledge, information and belief; and

4. A printout of the Easygrants® application Main page, which will list all of the documents that were submitted with the application by 5 p.m. ET on August 20, 2009.

One of the following methods of delivery must be used: hand-delivery, overnight express or regular mail. Applicants are encouraged, but not required, to use overnight express services. Applicants choosing to submit their attachments via an electronic medium may only submit the attachments that were not already loaded successfully. Mailed submissions must be postmarked no later August 24, 2009. Hand-delivered submissions must be delivered by 5 p.m. ET on August 24, 2009. The NOFA sets forth the proof of mailing requirements. Electronic mail and facsimile machine submissions will not be accepted. Note that RUS and NTIA may require the applicant to resubmit attachments if they have any technical or other issues accessing or identifying the data contained in the applicant's electronic medium and such resubmission will not be considered a material revision to the application.

All Attachments must be sent to: Broadband USA, 5301 Shawnee Road, Alexandria, VA 22312.

All media received will not be returned to the applicant.

Dated: August 19, 2009.
Jonathan Adelstein,
Administrator, Rural Utilities Service.
Lawrence E. Strickling,
Assistant Secretary for Communications and Information, National Telecommunications and Information Administration.

[FR Doc. E9-20372 Filed 8-20-09; 11:15 am]

BILLING CODE 3510-60-P